DEPARTMENT OF DEFENSE

Office of the Secretary

Defense Advisory Committee on Investigation, Prosecution, and Defense of Sexual Assault in the Armed Forces; Notice of Federal Advisory Committee Meeting

AGENCY: General Counsel of the Department of Defense, Department of Defense (DoD).

ACTION: Notice of Federal Advisory Committee meeting.

SUMMARY: The DoD is publishing this notice to announce that the following Federal Advisory Committee meeting of the Defense Advisory Committee on Investigation, Prosecution, and Defense of Sexual Assault in the Armed Forces (DAC-IPAD) will take place.

DATES: Tuesday, September 19, 2023—Open to the public from 12:30 p.m. to 4:50 p.m. EST and Wednesday, September 20, 2023—Open to the public from 8:25 a.m. to 4:15 p.m. EST.

ADDRESSES: General Gordon R. Sullivan Conference & Event Center, 2425 Wilson Boulevard, Arlington, Virginia 22201.

FOR FURTHER INFORMATION CONTACT: Dwight Sullivan, 703-695-1055 (Voice), dwight.h.sullivan.civ@mail.mil (Email). Mailing address is DAC-IPAD, One Liberty Center, 875 N. Randolph Street, Suite 150, Arlington, Virginia 22203. Website: https://dacipad.whs.mil/. The most up-to-date changes to the meeting agenda can be found on the website.

SUPPLEMENTARY INFORMATION: Due to circumstances beyond the control of the Designated Federal Officer, the Defense Advisory Committee on Investigation, Prosecution, and Defense of Sexual Assault in the Armed Forces was unable to provide public notification required by 41 CFR 102-3.150(a) concerning its September 19-20, 2023 meeting. Accordingly, the Advisory Committee Management Officer for the Department of Defense, pursuant to 41 CFR 102-3.150(b), waives the 15-calendar day notification requirement.

This meeting is being held under the provisions of chapter 10 of title 5 United States Code (U.S.C.) (formerly the Federal Advisory Committee Act (FACA) of 1972 (5 U.S.C., App.)), the Government in the Sunshine Act of 1976 (5 U.S.C. 552b, as amended), and 41 CFR 102-3.140 and 102-3.150.

Purpose of the Meeting: In section 546 of the National Defense Authorization Act (NDAA) for Fiscal Year 2015 (Pub. L. 113-291), as modified by section 537 of the NDAA for Fiscal Year 2016 (Pub. L. 114-92), Congress tasked the DAC-IPAD to advise the Secretary of Defense on the investigation, prosecution, and defense of allegations of rape, forcible sodomy, sexual assault, and other sexual misconduct involving members of the Armed Forces. This will be the thirty-first public meeting held by the DAC-IPAD. On Day 1, the Committee will hear from a representative from the Joint Service Committee on Military Justice on the recent military justice Executive Order; representatives from the Offices of Special Trial Counsel to provide an update on their new programs and policies; and a panel of former general court-martial convening authorities to provide their perspectives on the adequacy of the current Article 25, Uniform Code of Military Justice (UCMJ) criteria and the panel selection process. On Day 2, Committee members who have observed courts-martial will discuss their observations. The Committee will receive a staff briefing about the sexual assault case adjudication data collection project in progress for cases closed in FY2021 and FY2022; will deliberate on the proposed findings and recommendation options presented from the Article 25, UCMJ, panel selection study; will deliberate on the proposed findings and recommendations for the Section 549B report on victims' access to information; will receive an update from the Case Review Subcommittee on panel selection data collection; and will receive a staff presentation on the Military Departments' biennial collateral misconduct data.

Agenda: Day 1: 12:30 p.m.-12:35 p.m. Welcome and Introduction to Public Meeting; 12:35 p.m.-1:05 p.m. Joint Service Committee on Military Justice Briefing on the 2023 Military Justice Executive Order; 1:05 p.m.-2:35 p.m. Panel—Offices of Special Trial Counsel Representatives; 2:35 p.m.-2:50 p.m. Break; 2:50 p.m.-4:50 p.m. Panel—Former General Court-Martial Convening Authorities; 4:50 p.m. Public Meeting Day 1 Adjourned. Day 2: 8:25 a.m.-8:30 a.m. Welcome and Overview of Day 2; 8:30 a.m.-9:30 a.m. DAC-IPAD Court-Martial Observations Presentation and Committee Discussion; 9:30 a.m.-9:45 a.m. Sexual Assault Case Adjudication Case Data Collection for FY 2021 and FY 2022; 9:45 a.m.-10 a.m. Break; 10 a.m.-11:30 a.m. Policy Subcommittee Presentation and Committee Deliberations on Article 25, UCMJ, Panel Selection; 11:30 a.m.-12:30 p.m. Lunch; 12:30-2 p.m. Special Projects Subcommittee Presentation and Committee Deliberations on Victim Access to Information (Sec 549B); 2 p.m.-2:15 p.m. Break; 2:15 p.m.-2:30 p.m. Case Review Subcommittee Project Update; 2:30 p.m.-3:30 p.m. Collateral Misconduct Report Presentation and Committee Deliberations; 3:30 p.m.-4 p.m. Public Comment; 4 p.m.-4:15 p.m. Meeting Wrap-Up & Preview of Next Meeting; 4:15 p.m. Public Meeting Day 2 Adjourned.

Meeting Accessibility: Pursuant to 41 CFR 102-3.140 and 5 U.S.C. 1009(a)(1), the public or interested organizations may submit written comments to the DAC-IPAD about its mission and topics pertaining to this public meeting. Written comments must be received by the DAC-IPAD at least five (5) business days prior to the meeting date so that they may be made available to the DAC-IPAD members for their consideration prior to the meeting. Written comments should be submitted via email to the DAC-IPAD at whs.pentagon.em.mbx.dacipad@mail.mil in the following formats: Adobe Acrobat or Microsoft Word. Please note that since the DAC-IPAD operates under the provisions of the FACA, all written comments will be treated as public documents and will be made available for public inspection.

Written Statements: Pursuant to 41 CFR 102-3.140 and 5 U.S.C. 1009(a)(3), interested persons may submit a written statement to the DAC-IPAD. Individuals submitting a statement must submit their statement no later than 5:00 p.m. EST, Monday, September 18, 2023, to Dwight Sullivan, 703-695-1055 (Voice), 703-693-3903 (Facsimile), dwight.h.sullivan.civ@mail.mil (Email). If a statement pertaining to a specific topic being discussed at the planned meeting is not received by Monday, September 18, 2023, then it may not be provided to, or considered by, the Committee during the September 19-20, 2023, meeting. The DFO will review all timely submissions with the DAC-IPAD Chair and ensure such submissions are provided to the members of the DAC-IPAD before the meeting. Any comments received by the DAC-IPAD prior to the stated deadline will be posted on the DAC-IPAD website (https://dacipad.whs.mil/).

Dated: August 31, 2023.
Aaron T. Siegel,
Alternate OSD Federal Register Liaison Officer, Department of Defense.

[FR Doc. 2023-19344 Filed 9-6-23; 8:45 am]

BILLING CODE 5001-06-P